DEPARTMENT OF ENERGY

Federal Energy Regulatory Commission

[Docket No. CP11-481-001]

Southern Star Central Gas Pipeline, Inc.; Notice of Application

On October 19, 2011, Southern Star Central Gas Pipeline, Inc. (Southern Star) filed with the Federal Energy Regulatory Commission (Commission) an amendment to their May 13, 2011 abbreviated application under section 7(c) of the Natural Gas Act and the Rules and Regulations of the Commission's Regulations for authority to expand the existing certificated storage boundary zone not only horizontally but also vertically at Southern Star's existing Alden Gas Storage Field located in Rice County, Kansas. Subsequent to the filing of the original application, Southern Star's technical experts reported that storage gas had migrated vertically into the Simpson zone in portions of its existing field and in portions of the area originally identified for horizontal storage field expansion.

The expansion would further the integrity and protection of the gas storage field. The current operational parameters and capabilities of the Alden Gas Storage Field will be unchanged and current certificated service levels to customers will not be affected by boundary expansions sought by the amended Application.

Questions concerning this application may be directed to David N. Roberts, Staff Analyst, Regulatory Affairs, 4700 Highway 56, Owensboro, Kentucky 42301, by calling (270) 852-4654 or by emailing david.n.roberts@sscgp.com.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify Federal and State agencies of the timing for the completion of all necessary reviews, and the subsequent need to complete all Federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit seven copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission encourages electronic submission of protests and interventions in lieu of paper using the “eFiling” link at http://www.fere.gov. Persons unable to file electronically should submit an original and seven copies of the protest or intervention to the Federal Energy Regulatory Commission, 888 First Street, NE., Washington, DC 20426. This filing is accessible on-line at http://www.ferc.gov. using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time on November 15, 2011.

Dated: October 25, 2011.
Kimberly D. Bose,
Secretary.

[FR Doc. 2011-28088 Filed 10-28-11; 8:45 am]

BILLING CODE 6717-01-P